DEPARTMENT OF ENERGY

Federal Energy Regulatory Commission

[Docket No. CP11-26-000]

Panhandle Eastern Pipe Line Company, LP; Notice of Request Under Blanket Authorization

November 23, 2010.

Take notice that on November 12, 2010, Panhandle Eastern Pipe Line Company, LP (Panhandle), Post Office Box 4967, Houston, Texas 77210-4967, filed a prior notice request pursuant to sections 157.205 and 157.216 of the Federal Energy Regulatory Commission's regulations under the Natural Gas Act (NGA) and Panhandle's blanket certificate issued in Docket No. CP83-83-000, for authorization to abandon an inactive section of pipeline. Specifically, Panhandle seeks to abandon, in place, approximately 8,000 foot segment, 24-inch Houstonia 200 Standby Line (Standby Line) located in Cooper County, Missouri. Panhandle states that a portion of the pipe underlying Boller Lane will be grouted while the remainder of the segment will be filled with water. Additionally, Panhandle will retire and replace a tee and Main Line Valve 220-WS with a hot bend and reducer. Furthermore, a 24-inch block, siphon, and coupon holder will be installed at the end of the abandonment in accordance with DOT regulations, all as more fully set forth in the application which is on file with the Commission and open to public inspection. The filing may also be viewed on the Web at http://www.ferc.gov using the “eLibrary” link. Enter the docket number excluding the last three digits in the docket number field to access the document. For assistance, contact FERC at FERCOnlineSupport@ferc.gov or call toll-free, (866) 208-3676 or TTY, (202) 502-8659.

Any questions regarding the application should be directed to Stephen Veatch, Director of Certificates and Tariffs, Panhandle Eastern Pipe Line Company, LP, 5444 Westheimer Road, Houston, Texas 77056, telephone no. (713) 989-2024, or fax (713) 989-118, or by e-mail Stephen.veatch@sug.com.

Any person may, within 60 days after the issuance of the instant notice by the Commission, file pursuant to Rule 214 of the Commission's Procedural Rules (18 CFR 385.214) a motion to intervene or notice of intervention. Any person filing to intervene or the Commission's staff may, pursuant to section 157.205 of the Commission's Regulations under the NGA (18 CFR 157.205) file a protest to the request. If no protest is filed within the time allowed therefore, the proposed activity shall be deemed to be authorized effective the day after the time allowed for protest. If a protest is filed and not withdrawn within 30 days after the time allowed for filing a protest, the instant request shall be treated as an application for authorization pursuant to section 7 of the NGA.

The Commission strongly encourages electronic filings of comments, protests, and interventions via the Internet in lieu of paper. See 18 CFR 385.2001(a)(1)(iii) and the instructions on the Commission's Web site (http://www.ferc.gov) under the “e-Filing” link.

Kimberly D. Bose,
Secretary.

[FR Doc. 2010-30164 Filed 11-30-10; 8:45 am]

BILLING CODE 6717-01-P